DEPARTMENT OF THE INTERIOR

Bureau of Land Management

[Docket No. MT-924-02-1430-FM-003E]

Notice of Intent to Amend the West HiLine Resource Management Plan; Chouteau County, MT

AGENCY: Bureau of Land Management, Interior.

ACTION: Notice of intent.

SUMMARY: Notice is hereby given that the Bureau of Land Management (BLM) is proposing to amend the West HiLine Resource Management Plan. The BLM proposes exchanging 2.04 acres of Federal surface estate in Chouteau County for private land within the Crow Indian Reservation in Big Horn and Yellowstone Counties as a part of Phase 4a of the Crow Boundary Settlement Act Land Exchange. The Federal land is legally described as:

Chouteau County

T28N, R9E, PMM.

Sec. 18: Lot 1, containing 2.04 acres, more or less

Disposal of the Federal land described above was not analyzed in the West HiLine Resource Management Plan (RMP) and associated Environmental Impact Statement. Disposal of the Federal land requires: (1) That the specific tracts be identified in the land use plan together with the criteria to be met for exchange ,and (2) a discussion of how the exchange criteria have been satisfied. The discussion of how these requirements are being met will be part of the Environmental Assessment prepared to analyze the effects of disposal, as well as the plan amendment itself.

DATES: Comments and recommendations on this notice to amend the West HiLine RMP should be received on or before June 13, 2002.

ADDRESSES: Comments should be sent to David L. Mari, Field Manager, Lewistown Field Office, P.O. Box 1160, Lewistown, Montana 59457-1160.

FOR FURTHER INFORMATION CONTACT: Loretta Park, Realty Specialist, 406/538-1910.

Dated: February 20, 2002.
M. James Feist,
Acting Field Manager.

[FR Doc. 02-12017 Filed 5-13-02; 8:45 am]

BILLING CODE 4310-DN-P